DEPARTMENT OF COMMERCE

Census Bureau

Proposed Information Collection; Comment Request; Quarterly Services Survey

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 19, 2003.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to David Lassman, U.S. Census Bureau, Room 2744, FOB 3, Washington, DC 20233-6500, and (301) 763-7202.

SUPPLEMENTARY INFORMATION:

I. Abstract

The U.S. Census Bureau proposes a new quarterly survey of service industry activity called the Quarterly Services Survey (QSS). The QSS will begin a new economic indicator series which will produce, for selected service industries, quarterly estimates of total operating revenue and the percentage of revenue by class of customer. In addition, we also plan to collect total operating expenses from tax-exempt firms in industries that have a large not-for-profit component. Selected service industries include information, professional scientific and technical services, administrative and support and waste management and remediation services. We plan to expand the QSS to include hospitals and nursing and residential care facilities beginning the first quarter 2005.

We will mail the survey at the end of March 2004 and produce estimates for the fourth quarter 2003 and first quarter 2004. The first public data release will be in September 2004 covering the fourth quarter of 2003 and the first two quarters of 2004. We will release estimates no later than 90 days after the end of the quarter for each quarter thereafter. Our eventual goal, however, will be to reduce this period to 75 days after the end of the calendar quarter.

The data will be collected from all of the largest firms and from a sample of small- and medium-sized businesses selected using a stratified sampling procedure. Each quarter the sample will be updated to reflect the addition of new business births and firms and organizations that have gone out of business.

The Bureau of Economic Analysis will use data gathered in this survey to significantly improve its quarterly Gross Domestic Product (GDP) and GDP by industry estimates. The data will provide the Federal Reserve Board and Council of Economic Advisors with timely information to assess current economic performance. Other government and private stakeholders will also benefit from a better understanding of important cyclical components of our economy.

II. Method of Collection

We will collect this information by mail, fax, and a telephone follow-up.

III. Data

OMB Number: None.

Form Number(s): QS-1(A), QS-1(E), QS-2(A), QS-2(E), QS-3(A), QS-3(E).

Type of Review: Regular submission.

Affected Public: Businesses or other for-profit organizations; not-for-profit institutions, and government hospitals.

Estimated Number of Respondents: 6,000.

Estimated Time Per Response: 15 minutes.

Estimated Total Annual Burden Hours: 6,000 hours.

Estimated Total Annual Cost: The cost to the respondents for fiscal year 2004 is estimated to be $130,920 based on the median hourly salary of $21.82 for accountants and auditors. (Occupational Employment Statistics-Bureau of Labor Statistics “2001 National Occupational Employment and Wage Estimates”) http://www.bls.gov/oes/2001/oes132022.htm.

Respondent's Obligation: Voluntary.

Legal Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 15, 2003.
Gwellnar Banks,
Management Analyst, Office of the Chief Information Officer.

[FR Doc. 03-18406 Filed 7-18-03; 8:45 am]

BILLING CODE 3510-07-P